DEPARTMENT OF COMMERCE

National Institute of Standards and Technology

National Artificial Intelligence Advisory Committee

AGENCY: National Institute of Standards and Technology, Department of Commerce.

ACTION: Notice of open briefing session.

SUMMARY: The National Institute of Standards and Technology (NIST) announces that the National Artificial Intelligence Advisory Committee (NAIAC or Committee) will hold a public briefing session virtually via web conference on March 5, 2024, from 10 a.m.-1 p.m. eastern time. The primary purpose of this meeting is for the Committee to examine the concept of “AI safety” through the testimony of a group of experts, followed by questions and discussion.

DATES: The meeting will be held on Tuesday, March 5, 2024, from 10 a.m.—1 p.m. eastern time.

ADDRESSES: The meeting will be held virtually via web conference. Registration is required to view this virtual session. The public should register in accordance with the guidance provided in the SUPPLEMENTARY INFORMATION section of this notice.

FOR FURTHER INFORMATION CONTACT: Cheryl Gendron, Designated Federal Officer, National Institute of Standards and Technology, 100 Bureau Drive, MS 8900, Gaithersburg, MD 20899, cheryl.gendron@nist.gov, 301-975-2785. Please direct any inquiries to the committee at naiac@nist.gov.

SUPPLEMENTARY INFORMATION: Pursuant to the Federal Advisory Committee Act, as amended, 5 U.S.C. 1001 et seq., notice is hereby given that the NAIAC will meet as set forth in the DATES section of this notice. The meeting will be open to the public and will be held virtually. Additional information, including a final agenda and link to register, will be available online athttps://www.nist.gov/itl/national-artificial-intelligence-advisory-committee-naiac.

The NAIAC is authorized by Section 5104 of the National Artificial Intelligence Initiative Act of 2020 (Pub. L. 116-283, in accordance with the provisions of the Federal Advisory Committee Act, as amended (FACA), 5 U.S.C. 1001 et seq. The Committee advises the President and the National Artificial Intelligence Initiative Office on matters related to the National Artificial Intelligence Initiative. Additional information on the NAIAC is available at https://ai.gov/naiac/.

Comments: Individuals and representatives of organizations who would like to offer comments and suggestions related to items on the Committee's agenda for this meeting are invited to submit comments in advance of the conference. Approximately twenty minutes will be reserved for public comments, which will be read on a first-come, first-served basis. Please note that all comments submitted via email will be treated as public documents and will be made available for public inspection. All comments must be submitted via email with the subject line “March 5, 2024, NAIAC Public Briefing: AI Safety Comments” to naiac@nist.gov by 5 p.m. eastern time, Monday, March 4, 2024. NIST will not accept comments accompanied by a request that part or all of the comment be treated confidentially because of its business proprietary nature or for any other reason. Therefore, do not submit confidential business information or otherwise sensitive, protected, or personal information, such as account numbers, Social Security numbers, or names of other individuals.

Virtual Meeting Registration Instructions: The meeting will be broadcast virtually via web conference. Registration is required to view the web conference. Instructions to register will be made available at https://www.nist.gov/itl/national-artificial-intelligence-advisory-committee-naiac. Registration will remain open until the conclusion of the meeting.

Alicia Chambers,
NIST Executive Secretariat.

[FR Doc. 2024-03481 Filed 2-20-24; 8:45 am]

BILLING CODE 3510-13-P